ENVIRONMENTAL PROTECTION AGENCY

[FRL-6526-7]

Contractor Access to Confidential Business Information Under the Clean Air Act

AGENCY: Environmental Protection Agency (EPA).

ACTION: Notice.

SUMMARY: The EPA has authorized the following contractor and subcontractors for access to information that has been, or will be, submitted to EPA under sections 108-112, 114, 129 and 183 of the Clean Air Act (CAA) as amended: Research Triangle Institute, 3040 Cornwallis Road, Research Triangle Park, North Carolina 27709; Pechan-Avanti Group, 5537-C Hempstead Way, Springfield, Virginia 22151; Stratus Consulting, Inc., Suite 201, 1881 Ninth Street, Boulder, Colorado 80302; Mathtech, Inc., Suite 111, 202 Carnegie Center, Princeton, New Jersey 08540; The Kevric Company, Inc., Suite 610, 8401 Colesville Road, Silver Spring, Maryland 20910 under contract number 68-D-99-024.

Some of the information may be claimed to be confidential business information (CBI) by the submitter.

DATES: Access to confidential data submitted to EPA under the CAA will occur no sooner than 10 days after issuance of this notice.

FOR FURTHER INFORMATION CONTACT: Melva Toomer, Document Control Officer, Office of Air Quality Planning and Standards (MD-11), U.S. Environmental Protection Agency, Research Triangle Park, North Carolina 27711, (919) 541-0880.

SUPPLEMENTARY INFORMATION: The EPA is issuing this notice to inform all submitters of information under sections 108-112, 114, 129 and 183 of the CAA that EPA may provide the above mentioned contractor and subcontractors access to these materials on a need-to-know basis. This contractor and subcontractors will provide technical support to the Office of Air Quality Planning and Standards (OAQPS) in the analyses of cost and benefits of actual or potential EPA action taken under the CAA.

In accordance with 40 CFR, part 2. subparts B and other EPA regulations and policies, EPA has determined that this contractor and subcontractors require access to CBI, submitted to EPA under sections 108-112, 114, 129 and 183 of the CAA, in order to perform work satisfactorily under the above noted contract. The contractor and subcontractor personnel will be given access to information submitted under the above mentioned section of the CAA. Some of the information may be claimed or determined to be CBI. The contractor and subcontractor personnel will be required to sign nondisclosure agreements and will be briefed on appropriate security procedures before they are permitted access to CAA CBI. All access to CAA CBI will take place at the prime contractor's facility. This prime contractor has appropriate procedures and facilities in place to safeguard the CAA CBI to which the contractor has access.

Clearance for access to CAA CBI is scheduled to expire on September 30, 2004 under contract 68-D-99-024.

Dated: January 11, 2000.
Robert Brenner,
Acting Assistant Administrator for Air and Radiation.

[FR Doc. 00-1363 Filed 1-19-00; 8:45 am]

BILLIING CODE 6560-50-P